DEPARTMENT OF COMMERCE

Foreign-Trade Zones Board

[B-41-2019]

Foreign-Trade Zone 162—New Haven, Connecticut; Application for Subzone; Waterfront Enterprises, LLC, New Haven, Connecticut

An application has been submitted to the Foreign-Trade Zones (FTZ) Board by the Greater New Haven Chamber of Commerce, grantee of FTZ 162, requesting subzone status for the facilities of Waterfront Enterprises, LLC, located in New Haven, Connecticut. The application was submitted pursuant to the provisions of the Foreign-Trade Zones Act, as amended (19 U.S.C. 81a-81u), and the regulations of the FTZ Board (15 CFR part 400). It was formally docketed on June 24, 2019.

The proposed subzone would consist of the following sites: Site 1 (4.6 acres) 400 Waterfront Street, New Haven; Site 2 (22 acres) 31 Waterfront Street, New Haven; Site 3 (7 acres) 30 Waterfront Street, New Haven; and, Site 4 (23 acres) 347 Chapel Street, New Haven. No authorization for production activity has been requested at this time.

In accordance with the FTZ Board's regulations, Elizabeth Whiteman of the FTZ Staff is designated examiner to review the application and make recommendations to the FTZ Board.

Public comment is invited from interested parties. Submissions shall be addressed to the FTZ Board's Executive Secretary and sent to: ftz@trade.gov. The closing period for their receipt is August 7, 2019. Rebuttal comments in response to material submitted during the foregoing period may be submitted during the subsequent 15-day period to August 22, 2019.

A copy of the application will be available for public inspection in the “Reading Room” section of the FTZ Board's website, which is accessible via www.trade.gov/ftz.

For further information, contact Elizabeth Whiteman at Elizabeth .Whiteman@trade.gov or (202) 482-0473.

Dated: June 25, 2019.
Andrew McGilvray,
Executive Secretary.

[FR Doc. 2019-13862 Filed 6-27-19; 8:45 am]

BILLING CODE 3510-DS-P